FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 013445N.

Name: Delmas.

Address: 1 quai Colbert, 76600 Le Havre, France.

Date Revoked: July 1, 2005.

Reason: Surrendered license voluntarily.

License Number: 000429F.

Name: Reedy Forwarding Company, Inc.

Address: 631 Southwest 21 Road, Miami, FL 33129.

Date Revoked: June 10, 2005.

Reason: Surrendered license voluntarily.

License Number: 017976N.

Name: Sanwoo (America) Inc. dba Amos Cargo Service.

Address: 2100 91st Street, North Bergen, NJ 07047.

Date Revoked: June 30, 2005.

Reason: Surrendered license voluntarily.

Sandra L. Kusumoto,
Director, Bureau of Certification and Licensing.

[FR Doc. 05-14861 Filed 7-26-05; 8:45 am]

BILLING CODE 6730-01-P